OFFICE OF PERSONNEL MANAGEMENT

[OMB Control No. 3206-0278]

Submission for Review: Renewal of a Previously Approved Information Collection, USA Staffing, Onboarding Features

AGENCY: U.S. Office of Personnel Management.

ACTION: 60-Day Notice and request for comments.

SUMMARY: The Office of Personnel Management (OPM) offers the general public and other Federal agencies the opportunity to comment on a revised information collection request (ICR) 3206-0278, USA Staffing, Onboarding).

DATES: Comments are encouraged and will be accepted until May 22, 2023. This process is conducted in accordance with 5 CFR 1320.1.

ADDRESSES: Interested persons are invited to submit written comments on the proposed information collection by one of the following means:

• Federal Rulemaking Portal: http://www.regulations.gov All submissions received must include the agency name and docket number for this Federal Register document. The general policy for comments and other submissions from members of the public is to make these submissions available for public viewing on the internet at http://www.regulations.gov as they are received without change, including any personal identifiers or contact information.

• Email: bridget.dongarra@opm.gov. Please put “USA Staffing, Onboarding” in the subject line of the email.

FOR FURTHER INFORMATION CONTACT: A copy of this information collection request, with applicable supporting documentation, may be obtained by contacting the USA Staffing, Office of Personnel Management, 1900 E Street NW, Washington, DC 20415, Attention: Bridget Dongarra, or via electronic mail to bridget.dongarra@opm.gov.

SUPPLEMENTARY INFORMATION: As required by the Paperwork Reduction Act of 1995, (Pub. L. 104-13, 44 U.S.C. chapter 35) as amended by the Clinger-Cohen Act (Pub. L. 104-106), OPM is soliciting comments for this collection. USA Staffing is OPM's talent acquisition solution. Federal agencies use USA Staffing to onboard candidates for Federal positions while complying with appropriate rules and procedures. Federal agencies purchase the services of USA Staffing through an Interagency Agreement (IAA) under the provisions of the Revolving Fund, 5 U.S.C. 1304 (e) (1), which permits OPM to perform human resources management services for Federal agencies on a cost-recovery basis.

USA Staffing's public facing web page for new hires provides a single interface to submit data and forms required during the Federal onboarding process. New Hires are individuals selected for Federal employment but who have not yet entered on duty and authenticate at USA Staffing using their USAJOBS.gov accounts. USA Staffing captures the essential information Federal agencies require to onboard applicants for Federal jobs under the authority of sections 1104, 1302, 3301—3320, 3361, 3393, and 3394 of Title 5 United States Code.

This information collection was initially approved under an emergency authorization in pursuit of compliance with Executive Order (E.O.) 14043, titled “Requiring Coronavirus Disease 2019 Vaccination for Federal Employees.” This action seeks to reinstate the information collection independent of that Executive Order and instead focus on the regular business of the USA Staffing Onboarding system in gathering new hire information in pursuit of timely and efficient entry on duty actions. In addition, this collection will clarify the New Hire information elements collected by USA Staffing under its own OMB control number. This includes questions about basic identity, employment and service background, benefits enrollments, and payroll. Information for items which have their own approvals (such as the OF 306 and I-9 forms) are not included in this collection. The initial emergency clearance did not distinguish between these two contexts. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: USA Staffing, Onboarding.

OMB Number: 3206-0278.

Frequency: Annually.

Affected Public: Individuals.

Number of Respondents: 570,000.

Estimated Time per Respondent: 20 Minutes.

Total Burden Hours: 190,000.

U.S. Office of Personnel Management
Kellie Cosgrove Riley,
Executive Director, Office of Executive Secretariat and Privacy and Information Management.

[FR Doc. 2023-05765 Filed 3-20-23; 8:45 am]

BILLING CODE 6325-XX-P